SMALL BUSINESS ADMINISTRATION

[Disaster Declaration # 11880 and # 11881]

California Disaster # CA-00142

AGENCY: U.S. Small Business Administration.

ACTION: Amendment 1.

SUMMARY: This is an amendment of the Administrative declaration of disaster for the State of California dated 09/14/2009.

Incident: Station Fire.

Incident Period: 08/26/2009 through 09/25/2009.

Effective Date: 10/29/2009.

Physical Loan Application Deadline Date: 11/13/2009.

EIDL Loan Application Deadline Date: 06/14/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Administrator's disaster declaration for the State of California, dated 09/14/2009 is hereby amended to establish the incident period for this disaster as beginning 08/26/2009 and continuing through 09/25/2009.

All other information in the original declaration remains unchanged.

(Catalog of Federal Domestic Assistance Numbers 59002 and 59008)

Dated: October 29, 2009.
Karen G. Mills,
Administrator.

[FR Doc. E9-26768 Filed 11-5-09; 8:45 am]

BILLING CODE 8025-01-P